CONSUMER PRODUCT SAFETY COMMISSION

Sunshine Act Meeting Notice

TIME AND DATE: Tuesday, November 10, 2020, 10:00 a.m.

PLACE: This meeting will be conducted by remote means via (GoToWebinar)

STATUS: Commission Meeting—Open to the Public

Matter To Be Considered: Decisional Matter: Fiscal Year 2021 Operating Plan

Attendance: Due to the COVID 19 Pandemic this Commission Meeting will be held by remote means. If you would like to attend the meeting follow the directions under virtual meeting attendance on CPSC.gov: https://www.cpsc.gov/Newsroom/Public-Calendar.

CONTACT PERSON FOR MORE INFORMATION: Alberta Mills, Office of the Secretariat, Office of the General Counsel, U.S. Consumer Product Safety Commission, 4330 East West Highway, Bethesda, MD 20814, (301) 504-6833 (Office) or (240)-863-8938 (Cell).

Dated: October 27, 2020.
Alberta E. Mills,
Secretary.

[FR Doc. 2020-24159 Filed 10-28-20; 11:15 am]

BILLING CODE 6355-01-P